DEPARTMENT OF TRANSPORTATION

Office of the Secretary

Reports, Forms and Recordkeeping Requirements; Agency Information Collection Activity Under OMB Review

AGENCY: Office of the Secretary, DOT.

ACTION: Notice and request for comments.

SUMMARY: In compliance with the Paperwork Reduction Act of 1995 (44 U.S.C. 3501 et seq.), this notice announces that the Information Collection Request (ICR) abstracted below has been forwarded to the Office of Management and Budget (OMB) for renewal and comment. The ICR describes the nature of the information collection and its expected cost and burden. The Federal Register notice with a 60-day comment period soliciting comments on the following collection of information was published on March 9, 2005 (FR 45, page 11724). No comments were received.

DATES: Comments must be submitted on or before June 30, 2005, to: Attention DOT/OST Desk Officer, Office of Information and Regulatory Affairs, office of Management and Budget, Docket Library, Room 10101, 725 17th Street, NW., Washington, DC 20503.

FOR FURTHER INFORMATION CONTACT: Linda Lasley, Attorney-Adviser Regulation and Enforcement, Office of the General Counsel, U.S. Department of Transportation, 400 7th Street, SW., Washington, DC 20590-0002, Tel. (202) 366-4723.

SUPPLEMENTARY INFORMATION:

Office of the Secretary (OST)

Title: Transportation For Individuals With Disabilities-Accessibility of Over-The-Road-Buses (OTRBs).

OMB control Number: 2100-0019.

Affected Public: Bus companies and the disability community.

Annual Estimated Burden: 316,226.

Comments are invited on: Whether the proposed collection of information is necessary for the proper performance of the functions of the Department, including whether the information will have practical utility; the accuracy of the Department's estimate of the proposed information collection; ways to enhance the quality, utility, and clarity of the information to be collected; and ways to minimize the burden of the collection of information on respondents, including the use of automated collection techniques or other forms of information technology.

Issued in Washington, DC, on May 24, 2005.
Michael A. Robinson,
Office of the Chief Information Office, United States Department of Transportation.

[FR Doc. 05-10726 Filed 5-27-05; 8:45 am]

BILLING CODE 4910-62-P